DEPARTMENT OF COMMERCE

National Oceanic and Atmospheric Administration Submission for OMB Review; Comment Request

The Department of Commerce will submit to the Office of Management and Budget (OMB) for clearance the following proposal for collection of information under the provisions of the Paperwork Reduction Act.

Agency: National Oceanic and Atmospheric Administration (NOAA).

Title: Southeast Region Dealer and Interview Family of Forms.

OMB Control Number: 0648-0013.

Form Number(s): None.

Type of Request: Regular submission (revision and extension of a currently approved collection).

Number of Respondents: 6,188.

Average Hours per Response: Shrimp Interviews, Vessel Trip interviews, USVI Trip interviews, South Carolina Coastal Fisheries Dealer Reporting, and Mackerel Gillnet Reporting, 10 minutes; Wreckfish Dealer Reporting, 13 minutes; Coastal Fisheries electronic dealer reporting, 1 minute.

Burden Hours: 4,805.

Needs and Uses: Fishery quotas are established for many species in the fishery management plans developed by the Gulf of Mexico Reef Fish Fishery Management Council, the South Atlantic Fishery Management Council, and The Caribbean Fishery Management Council. The Southeast Fisheries Science Center has been delegated the responsibility to monitor these quotas. To do so in a timely manner, seafood dealers that handle these species are required to report the purchases (landings) of these species. The frequency of these reporting requirements varies depending on the magnitude of the quota (e.g., lower quota usually require more frequent reporting) and the intensity of fishing effort. The most common reporting frequency is weekly. Daily reporting is only used for one fishery.

In addition, information collection included in this family of forms includes interview with fishermen to gather information on the fishing effort, location, and type of gear used on individual trips. This data collection is conducted for a subsample of the fishing trips and vessel/trips in selected commercial fisheries in the Southeast region and commercial fisheries of the US Caribbean. Fishing trips and individuals are selected at random to provide a viable statistical sample. These data are used for scientific analyses that support critical conservation and management decisions made by national and international fishery management organizations.

Anticipated changes in burden hours and respondents are driven by the number of fishing trips made by the fisherman each year. Seasonal differences are always noticed because many factors such as weather, fuel cost, dock side fish prices, fish migration patterns, the number of fisherman with active permits, and seasonal closures can influence how many fishing trip take place annually.

The following individual collections are removed as they are now included in the Coastal Fisheries Dealer Reporting: Vessel Operational Unit Inventory; Coral Dealer Reporting; and South Atlantic Snapper-grouper, Rock Shrimp, Golden Crab, and Dolphin/Wahoo Dealer Reporting; and Gulf and South Atlantic Coastal Migratory Pelagics and Spiny Lobster Dealer Reporting.

This data collection is authorized under 50 CFR part 622.5.

Affected Public: Small business or other for-profit organizations; individuals or Households with federal fishing permits.

Frequency: Per fishing trip.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-00601 Filed 1-15-20; 8:45 am]

BILLING CODE 3510-22-P